DEPARTMENT OF HEALTH AND HUMAN SERVICES

Centers for Disease Control and Prevention

[60Day-24-24FU; Docket No. CDC-2024-0039]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Assessing Capacity to Expand Hepatitis C Testing and Treatment in United States Carceral Systems. This data collection proposes to estimate point prevalence of hepatitis C virus in carceral settings, outline patient characteristics, clinical management, and understand key operational and programmatic successes and challenges to testing and treatment of hepatitis C virus, as well as to support timely analysis and utilize findings to advance the elimination of viral hepatitis in the United States.

DATES: CDC must receive written comments on or before July 29, 2024.

ADDRESSES: You may submit comments, identified by Docket No. CDC-2024-0039 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessing Capacity to Expand Hepatitis C Testing and Treatment in United States Carceral Systems—New—National Center for HIV, Viral Hepatitis, STD, and TB Prevention (NCHHSTP), Centers for Disease Control and Prevention (CDC).

Background and Brief Description

Carceral settings pose a unique challenge to hepatitis C elimination in that data, as it relates to hepatitis C virus testing and treatment, is not readily available for analysis to understand the burden of disease within this environment. To our knowledge, CDC does not have a repository of data specifically directed towards hepatitis C within State Department of Corrections (DOC) or large jails. This survey instrument will provide CDC the opportunity to survey a population that is key to advancing the Division of Viral Hepatitis strategic plan to eliminate viral hepatitis in the U.S.

The overarching goals for this data collection are: (1) to reduce new viral hepatitis infections; (2) to reduce viral hepatitis-related morbidity and mortality; and (3) to reduce viral hepatitis-related disparities. The information collected will allow CDC to be good stewards of resources by guiding programmatic initiatives and allocation of funding sources. Data from this project will be used to inform program planning and evaluation of prevention programs that aim to reduce new viral hepatitis infections, reduce viral hepatitis-related morbidity and mortality and reduce viral hepatitis-related disparities. The data collected will establish a system for ongoing program evaluation and improvement and allows for data-driven resource allocation to areas of greatest need. Invitations will be sent to 101 State and Local DOCs, to include the District of Columbia. The request to complete this anonymous electronic survey will include enough time for record searches. This survey has branching logic to reduce the number of questions asked to each respondent if the question does not apply. Participating institutions will have a set-time period, to complete the survey. This survey will be self-administered which may take up to 30 minutes to complete using an electronic platform. If preferred, there will be an option to complete an interviewer-administered survey via telephone or videoconferencing.

CDC requests OMB approval for an estimated 60 annual burden hours. There is no cost to respondents other than their time to participate.

Estimates of Annualized Burden Hours
Type of respondents | Form name | Number of respondents | Number of responses per respondent | Average burden per response (in hours) | Total burden (in hours)
State and local Department of Corrections (DOC) prison and jails, to include District of Columbia | Assessing Capacity to Expand Hepatitis C Testing and Treatment in United States Carceral Systems | 101 | 1 | 30/60 | 60
Total |  |  |  |  | 60

Jeffrey M. Zirger,
Lead, Information Collection Review Office, Office of Public Health Ethics and Regulations, Office of Science, Centers for Disease Control and Prevention.

[FR Doc. 2024-11592 Filed 5-24-24; 8:45 am]

BILLING CODE 4163-18-P